DEPARTMENT OF COMMERCE

International Trade Administration

[A-588-872]

Non-Oriented Electrical Steel from Japan: Final Results of Antidumping Duty Administrative Review; 2022-2023

AGENCY: Enforcement and Compliance, International Trade Administration, Department of Commerce.

SUMMARY: The U.S. Department of Commerce (Commerce) determines that Nippon Steel Corporation (NSC) sold non-oriented electrical steel (NOES) from Japan in the United States at prices below normal value (NV) during the period December 1, 2022, through November 30, 2023, (the POR).

DATES: Applicable December 19, 2025.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On April 11, 2025, Commerce published the Preliminary Results in the Federal Register and invited interested parties to comment on those results.¹ On July 31, 2025, Commerce extended the deadline for issuing the final results of this review by 60 days until October 8, 2025.² Due to the lapse in appropriations and Federal Government shutdown, on November 14, 2025, Commerce tolled all deadlines in administrative proceedings by 47 days.³ Accordingly, the deadline for these final results of review is now November 24, 2025. For details regarding the events that occurred subsequent to publication of the Preliminary Results in the Federal Register, see the Issues and Decision Memorandum.⁴ Commerce conducted this administrative review in accordance with section 751(a) of the Tariff Act of 1930, as amended (the Act).

¹ See Non-Oriented Electrical Steel from Japan: Preliminary Results of Antidumping Duty Administrative Review; 2022-2023, 90 FR 15447 (April 11, 2025) (Preliminary Results), and accompanying Preliminary Decision Memorandum (PDM).

² See Memorandum, “Extension of Deadline for Final Results of Antidumping Duty Administrative Review,” dated July 31, 2025.

³ See Memorandum, “Deadlines Affected by the Shutdown of the Federal Government,” dated November 14, 2025.

⁴ See Memorandum, “Issues and Decision Memorandum for the Final Results of the Administrative Review of the Antidumping Duty Order on Non-Oriented Electrical Steel from Japan; 2022-2023,” dated concurrently with, and hereby adopted by, this notice (Issues and Decision Memorandum).

Scope of the Order

The product covered by the Order is non-oriented electrical steel from Japan. For a complete description of the scope of the Order, see the Issues and Decision Memorandum.

Analysis of Comments Received

All issues raised in the case and rebuttal briefs are addressed in the Issues and Decision Memorandum. A list of the issues that parties raised and to which we responded in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to the margin calculation for NSC. Specifically, Commerce has applied partial adverse facts available (AFA) to NSC in these final results rather than total AFA. For a discussion of these changes, see the Issues and Decision Memorandum.

Final Results of Review

Commerce determines that the following estimated weighted-average dumping margin exists for the period December 1, 2022, through November 30, 2023:

Exporter or producer | Weighted-average dumping margin (percent)
Nippon Steel Corporation | 47.80

Disclosure

Normally, Commerce discloses to parties to the proceeding the calculations performed in connection with the final results of review within five days of any public announcement of the final results of review or, if there is no public announcement, within five days of the date of publication of the notice of final results of review in the Federal Register, in accordance with 19 CFR 351.224(b).

Assessment of Antidumping Duties

Pursuant to section 751(a)(2)(C) of the Act and 19 CFR 351.212(b)(1), Commerce has determined, and U.S. Customs and Border Protection (CBP) shall assess, antidumping duties on all appropriate entries of subject merchandise covered by the final results of this review.⁵ Specifically, Commerce will instruct CBP to assess antidumping duties on subject merchandise sold by NSC and entered, or withdrawn from warehouse, for consumption during the POR at a rate equal to the weighted-average dumping margin listed in the table above. Commerce intends to issue assessment instructions to CBP no earlier than 35 days after the publication date of these final results of review in the Federal Register. If a timely summons is filed at the U.S. Court of International Trade, the assessment instructions will direct CBP not to liquidate relevant entries until the time for parties to file a request for a statutory injunction has expired (i.e., within 90 days of publication).

⁵ See Antidumping Proceedings: Calculation of the Weighted Average Dumping Margin and Assessment Rate in Certain Antidumping Proceedings: Final Modification, 77 FR 8101 (February 14, 2012) (Final Modification).

Cash Deposit Requirements

The following cash deposit requirements for estimated antidumping duties will be effective for all shipments of subject merchandise entered, or withdrawn from warehouse, for consumption on, or after, the date of publication of this notice in the Federal Register, as provided for by section 751(a)(2)(C) of the Act: (1) for merchandise exported by NSC, the cash deposit rate will be equal to the weighted-average dumping margin listed in the table above; (2) the cash deposit rate for an exporter not covered by this administrative review, but covered in a prior completed segment of this proceeding, will continue to be the exporter's existing company-specific cash deposit rate; (3) if the exporter is not covered by this administrative review, or a completed segment of this proceeding, but the producer of the subject merchandise is covered, the cash deposit rate will be the producers' existing company-specific cash deposit rate; and (4) the cash deposit rate for all other producers and exporters will continue to be 135.59 percent, the all-others cash deposit rate established in the Final Determination of the less-than-fair-value investigation in this proceeding.⁶

⁶ See Order, 79 FR at 71743.

These cash deposit requirements, when imposed, shall remain in effect until further notice.

Notification to Importers

This notice serves as a final reminder to importers of their responsibility under 19 CFR 351.402(f)(2) to file a certificate regarding the reimbursement of antidumping duties prior to liquidation of the relevant entries during this period of review. Failure to comply with this requirement could result in Commerce's presumption that reimbursement of antidumping duties occurred and the subsequent assessment of double antidumping duties.

Administrative Protective Order (APO)

This notice also serves as a final reminder to parties subject to an APO of their responsibility to return or destroy proprietary information disclosed under an APO in accordance with 19 CFR 351.305(a)(3). Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: December 15, 2025.
Christopher Abbott,
Deputy Assistant Secretary for Policy and Negotiations, performing the non-exclusive functions and duties of the Assistant Secretary for Enforcement and Compliance.

Appendix

List of Topics Discussed in the Issues and Decision Memorandum

I. Summary

II. Background

III. Changes Since the Preliminary Results

IV. Scope of the Order

V. Discussion of the Issues

Comment 1: Whether Commerce Incorrectly Found NSC Was Affiliated With Certain Trading Companies

Comment 2: Whether Use of Adverse Inferences is Warranted

Comment 3: Whether Commerce Should Apply Partial, Rather Than Total, Adverse Facts Available

VI. Recommendation

[FR Doc. 2025-23456 Filed 12-18-25; 8:45 am]

BILLING CODE 3510-DS-P